DEPARTMENT OF ENERGY

Office of Energy Efficiency and Renewable Energy

Proposed Agency Information Collection

AGENCY: Office of Energy Efficiency and Renewable Energy, U.S. Department of Energy.

ACTION: Notice and Request for Comments.

SUMMARY: The Department of Energy (DOE) invites public comment on a proposed collection of information that DOE is developing for submission to the Office of Management and Budget (OMB) pursuant to the Paperwork Reduction Act of 1995.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before September 7, 2010. If you anticipate difficulty in submitting comments within that period, contact the person listed in ADDRESSES as soon as possible.

ADDRESSES: Written comments may be sent to Jeffery Dowd, Solar Decathlon Evaluation Lead; EE-3B, Forrestal Building; U.S. Department of Energy; 1000 Independence Ave., SW., Washington, DC 20585; (O) 202-586-7258; or by fax at 202-586-2176; or by e-mail at Jeff.Dowd@ee.doe.gov.

FOR FURTHER INFORMATION CONTACT: Requests for additional information or copies of the information collection instrument and instructions should be directed to Jeffery Dowd at Jeff.Dowd@ee.doe.gov.

SUPPLEMENTARY INFORMATION: This information collection request contains:

(1) OMB No. 1910 New;

(2) Information Collection Request Title: DOE Solar Decathlon Impact Evaluation Surveys;

(3) Type of Request: New;

(4) Purpose: The information collected by this information collection will be used for an impact evaluation of the Solar Decathlon Program. The evaluation will contribute to the effective administration; program monitoring, and management of the Solar Decathlon Program; and for measuring attainment of DOE's program goals as required by the Government Performance and Results Act (GPRA), and the Office of Management and Budget's (OMB's) Program Assessment Rating Tool (PART);

(5) Annual Estimated Number of Respondents: 810;

(6) Annual Estimated Number of Total Responses: 810;

(7) Annual Estimated Number of Burden Hours: 104 hours;

(8) Annual Estimated Reporting and Recordkeeping Cost Burden: No cost burden to the respondents is expected.

Statutory Authority: Department of Energy Organization Act of 1977 (42 U.S.C. 5815(b)); Government Performance and Results Act (31 U.S.C. 1115(a)); Executive Order 13450, November 13, 2007; and Memo, Peter R. Orszag, Director, Office of Management and Budget, “Increased Emphasis on Program Evaluations,” dated October 7, 2009.

Issued in Washington, DC, on June 25, 2010.
Scott Hine,
Acting Deputy Assistant Secretary-Business Administration (DAS-BA), Office of Energy Efficiency and Renewable Energy.

[FR Doc. 2010-16440 Filed 7-6-10; 8:45 am]

BILLING CODE 6450-01-P